DEPARTMENT OF TRANSPORTATION

Federal Highway Administration

Environmental Impact Statement: Essex and Middlesex Counties, MA

AGENCY: Federal Highway Administration (FHWA), DOT.

ACTION: Notice of intent.

SUMMARY: The FHWA is issuing this notice, in accordance to the National Environmental Policy Act of 1969 (NEPA) and its implementing regulations contained in 23 CFR part 771, to advise the public that an Environmental Impact Statement (EIS) will be prepared for proposed highway improvements and an interchange project on Interstate 93 (I-93) in Essex and Middlesex Counties, Massachusetts.

FOR FURTHER INFORMATION CONTACT: John McVann, Director of Project Delivery, Federal Highway Administration, 55 Broadway Floor, Cambridge, Massachusetts 02142, Telephone: (617) 494-2416.

SUPPLEMENTARY INFORMATION: The FHWA, in cooperation with the Massachusetts Highway Department (MassHighway), will prepare an Environmental Impact Statement (EIS) on a proposal to improve I-93 in Essex and Middlesex Counties, Massachusetts. The proposed project would involve highway improvements to I-93 and the construction of a new break-in-access interchange near the Andover/Tewksbury/Wilmington town borders. Improvements to the I-93 corridor were examined in the Route I-93 Corridor Traffic Study finalized in 2004 and endorsed by the Merrimack Valley Metropolitan Planning Organization (MPO). The proposed break-in-access was the subject of an Interchange Justification Report dated July 2006, and conditionally approved by FHWA pending the completion of the NEPA process. Because it is anticipated that the resulting project may allow for general economic development opportunities, the Commonwealth of Massachusetts Executive Office of Housing and Economic Development (EOHED) is a partnering agency with MassHighway in this project.

The proposed project is to provide improvements for the existing and projected traffic demand, as well as to improve safety in the area where the use of the breakdown lane is allowed for regular vehicle travel during morning and evening peak periods. The proposed interchange will provide access to all three towns including potential new development sites. Alternatives under consideration include: (1) Taking no action; (2) Transportation Demand Management (TDM); (3) using alternate travel modes; (4) providing improvements at other local and interstate roadway network locations; and (5) constructing a new interchange. Design variations of grade, alignment, and access will be incorporated into and studied with the various build alternatives.

A formal scoping meeting will be held at the Tewksbury Town Hall Auditorium on March 19, 2009, from 2 p.m. to 4 p.m. (EST) for the participating agencies, and from 4 p.m. to 8 p.m. (EST) for the general public. Letters describing the proposed action and soliciting comments will be sent to appropriate Federal, State, and local agencies, and to private organizations and citizens who have previously expressed or are known to have interest in this proposal. A series of public meetings will be held in Andover, Tewksbury and Wilmington, Massachusetts throughout 2009. In addition, a public hearing will be held within 60 days of the availability of the draft EIS. Public notice will be given of the time and place of the meetings and hearing. The draft EIS will be available for public and agency review and comment prior to the public hearing.

Comments and suggestions are invited from all interested parties during the appropriate step in the NEPA process to ensure that the full range of issues related to this proposed action are addressed and all significant issues identified. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: January 15, 2009.
Lucy Garliauskas,
Division Administrator.

[FR Doc. E9-1422 Filed 1-23-09; 8:45 am]

BILLING CODE 4910-22-M